DEPARTMENT OF HOMELAND SECURITY

Coast Guard

33 CFR Part 100

[Docket No. USCG-2023-0864]

Special Local Regulations; Southern California Annual Marine Events for the Los Angeles—Long Beach Captain of the Port Zone

AGENCY: Coast Guard, Department of Homeland Security (DHS).

ACTION: Notification of enforcement of regulations.

SUMMARY: The Coast Guard will enforce multiple special local regulations codified in federal regulations for recurring marine events taking place in December 2023 located in the Los Angeles—Long Beach Captain of the Port Zone. This action is necessary and intended to provide for the safety of life and property on navigable waterways during these events. During the enforcement periods, the operator of any vessel in the regulated area must comply with directions from the Patrol Commander or any official patrol vessels displaying a Coast Guard ensign.

DATES: The Coast Guard will enforce the regulations listed in 33 CFR 100.1104, for the locations described in event (5) through (16) in Table 1 to § 100.1104 during December 2023, according to the schedule listed in the SUPPLEMENTARY INFORMATION section of this document.

FOR FURTHER INFORMATION CONTACT: If you have questions about this notification of enforcement, contact LCDR Kevin Kinsella, U.S. Coast Guard Sector Los Angeles—Long Beach at telephone (310) 467-2099 or email D11-SMB-SectorLALB-WWM@uscg.mil.

SUPPLEMENTARY INFORMATION: The Coast Guard will enforce multiple special local regulations for annual events in the Captain of the Port Los Angeles—Long Beach Zone listed in 33 CFR 100.1104 Table 1—To § 100.1104 for events occurring in the month of December as listed:

1. Entry (5) Morro Bay Holiday Boat Parade (a.k.a. Morro Bay Lighted Boat Parade), From 4 p.m. to 9 p.m. on December 2, 2023.

2. Entry (6) Santa Barbara Holiday Boat Parade (a.k.a. Annual Boat Parade of Lights), From 6:30 p.m. to 7 p.m. on December 10, 2023.

3. Entry (7) Ventura Harbor Holiday Boat Parade (a.k.a. Ventura Harbor Parade of Lights), From 6:30 p.m. to 8 p.m. December 15, 2023, through December 16, 2023.

4. Entry (8) Channel Islands Harbor Holiday Boat Parade (a.k.a. Channel Islands Harbor Parade of Lights), From 7 p.m. to 9 p.m. on December 9, 2023.

5. Entry (9) Marina Del Rey Holiday Boat Parade, From 6 p.m. to 8 p.m. on December 9, 2023.

6. Entry (10) King Harbor Holiday Boat Parade, From 5:30 p.m. to 8 p.m. on December 9, 2023.

7. Entry (11) Port of Los Angeles Holiday Boat Parade (a.k.a. Los Angeles Harbor Holiday Afloat Parade), From 5:30 p.m. to 9:30 p.m. on December 2, 2023.

8. Entry (12) Parade of 1,000 Lights (a.k.a. Shoreline Yacht Club Annual Christmas Boat Parade), From 5:30 p.m. to 7:30 p.m. on December 9, 2023.

9. Entry (13) Naples Island Holiday Boat Parade (a.k.a. Naples 77th Annual Holiday Boat Parade), From 5 p.m. to 10 p.m. on December 16, 2023.

10. Entry (14) Huntington Harbor Holiday Boat Parade (a.k.a. 61st Annual Huntington Harbor Boat parade), From 5 p.m. to 9 p.m. December 9, 2023, through December 10, 2023.

11. Entry (15) Newport Beach Holiday Boat Parade (a.k.a. Newport Beach Christmas Boat Parade), From 6:30 p.m. to 9 p.m. December 13, 2023, through December 17, 2023.

12. Entry (16) Dana Point Holiday in the Harbor (a.k.a. 48th Annual Dana Point Harbor Boat Parade of Lights), From 6:30 p.m. to 8:30 p.m. December 8, 2023, through December 10, 2023.

Pursuant to 33 CFR 100.1104, all persons and vessels not registered with the sponsor as participants or as official patrol vessels are considered spectators. The “official patrol” consists of any Coast Guard asset; other Federal, state, or local law enforcement; and any public or sponsor-provided vessels assigned or approved by the cognizant Coast Guard Sector Commander to patrol each event. No spectator shall anchor, block, loiter, nor impede the through transit of participants or official patrol vessels in the regulated areas during all applicable effective dates and times unless cleared to do so by or through an official patrol vessel. When hailed and/or signaled by an official patrol vessel, any spectator located within a regulated area during all applicable effective dates and times shall come to an immediate stop. The Patrol Commander (PATCOM) is empowered to control the movement of all vessels in the regulated area or to restrict vessels from entering the regulated area. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65MHz) or 16 (156.8MHz) when required, by the call sign “PATCOM.” The Patrol Commander may, upon request, allow the transit of commercial vessels through regulated areas when it is safe to do so. The Coast Guard may be assisted by other Federal, state, or local agencies.

This notice of enforcement is issued under authority of 33 CFR 100.1104 and 5 U.S.C. 552(a). In addition to this notification of enforcement in the Federal Register, the Coast Guard will provide the maritime community with advance notification of this enforcement period via the Local Notice to Mariners, marine information broadcasts, and Broadcast Notice to Mariners. If the Captain of the Port Los Angeles—Long Beach determines that the Special Local Regulations need not to be enforced for the full duration stated in this notice, the Captain of the Port may use a Broadcast Notice to Mariners to reflect the change.

Dated: November 17, 2023.
R.D. Manning,
Captain, U.S. Coast Guard, Captain of the Port Los Angeles—Long Beach.

[FR Doc. 2023-25994 Filed 11-22-23; 8:45 am]

BILLING CODE 9110-04-P